DEPARTMENT OF DEFENSE

Office of the Secretary

[Docket ID DOD-2011-OS-0028]

U.S. Court of Appeals for the Armed Forces Proposed Rules Changes

AGENCY: Department of Defense.

ACTION: Notice of Proposed Changes to the Rules of Practice and Procedure of the United States Court of Appeals for the Armed Forces.

SUMMARY: This notice announces the following proposed changes to Rules 9(e) and 41(b) of the Rules of Practice and Procedure, United States Court of Appeals for the Armed Forces.

DATES: Comments on the proposed change must be received within 30 days of the date of this notice.

ADDRESSES: You may submit comments, identified by docket number and/or Regulatory Information Number (RIN) and title by any of the following methods:

• Federal eRulemaking Portal:http://www.regulations.gov.

• Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://www.regulations.gov as they are received without change, including personal identifiers or contact information.

FOR FURTHER INFORMATION CONTACT: William A. DeCicco, Clerk of the Court, telephone (202) 761-1448.

Dated: March 1, 2011.
Morgan F. Park,
Alternate OSD Federal Liaison Officer, Department of Defense.

Rule 9(e)

Rule 9(e) currently reads:

(e) Hours. The Clerk's office shall be open for the filing of pleadings and other papers from 8 a.m. to 5 p.m. every day except Saturdays, Sundays, and legal holidays, or as otherwise ordered by the Court. See Rule 36(a). The Court is always open for filing of pleadings and other papers. A pleading or other paper may be filed outside of normal operating hours of the Clerk's office by delivery to the U.S. Marshal on duty in the front lobby of the courthouse. Pleadings will be deemed filed on the date and time delivered to the U.S. Marshal. The U.S. Marshal will notify the Clerk of the filing in accordance with procedures provided by the Clerk.

The proposed change to Rule 9(e) would read:

(e) Hours. The Clerk's office shall be open for the filing of pleadings and other papers from 8 a.m. to 5 p.m. every day except Saturdays, Sundays, and legal holidays, or as otherwise ordered by the Court. See Rule 36(a). The Court is always open for filing of pleadings and other papers. A pleading or other paper may be filed outside of normal operating hours of the Clerk's office by delivery to Court security personnel on duty in the front lobby of the courthouse. Pleadings will be deemed filed on the date and time delivered to Court security personnel. Court security personnel will notify the Clerk of the filing in accordance with procedures provided by the Clerk.

Comment: The proposed change modifies the term “U.S. Marshal” in three places to “Court security personnel.” The reason for the change is that security for the Court is now provided by the Pentagon Force Protection Agency, and not the U.S. Marshals Service. The change will therefore more accurately describe the officers on duty.

Rule 41(b)

Rule 41(b) currently reads:

(a) The photographing, televising, recording, or broadcasting of any session of the Court or other activity relating thereto is prohibited unless authorized by the Court.

(b) Any violation of this rule will be deemed a contempt of this Court and, after due notice and hearing, may be punished accordingly. See 18 U.S.C. 401.

The proposed change to Rule 41(b) would read:

(a) The photographing, televising, recording, or broadcasting of any session of the Court or other activity relating thereto is prohibited unless authorized by the Court.

(b) Any violation of this rule will be deemed a contempt of this Court and, after due notice and hearing, may be punished accordingly. See Article 48, UCMJ.

Comment: In the recent National Defense Authorization Act, Congress amended Article 48, Uniform Code of Military Justice, to give express contempt power to the United States Court of Appeals for the Armed Forces. The proposed change reflects this direct grant of authority to the Court.

[FR Doc. 2011-4927 Filed 3-3-11; 8:45 am]

BILLING CODE 5001-06-P